DEPARTMENT OF ENERGY

Federal Energy Regulatory Commission

[Project No. 3052-003]

City of Black River Falls; Notice of Availability of Scoping Document 1

October 17, 2000.

In accordance with the National Environmental Policy Act of 1969 and the Federal Energy Regulatory Commission's (Commission) regulations, 18 CFR Part 380, the Office of Energy Projects has reviewed the application for license for the Black River Falls Hydroelectric Project, located on the Black River in Jackson County, Wisconsin, and has prepared a Scoping Document 1 (SD1) for the project. The project does not occupy federal lands.

Copies of the SD1 are available for review at the Commission's Public Reference Room, located at 888 First Street, NE, Washington, DC 20426, or by calling (202) 208-1371. The SD1 may be viewed on the web at http://www.ferc.fed.us/online/rims.htm (call (202) 208-2222 for assistance).

Any comments (an original and eight copies) should be filed by November 16, 2000 and should be addressed to David P. Boergers, Secretary, Federal Energy Regulatory Commission, 888 First Street, NE, Washington, DC 20426. For further information, contact Susan O'Brien at (202) 219-2840. Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27093 Filed 10-20-00; 8:45 am]

BILLING CODE 6717-01-M